DEPARTMENT OF LABOR

Advisory Committee on Veterans' Employment, Training and Employer Outreach (ACVETEO): Meeting

AGENCY: Veterans' Employment and Training Service (VETS), Department of Labor.

ACTION: Notice of open meeting.

SUMMARY: This notice sets forth the schedule and proposed agenda of a forthcoming meeting of the ACVETEO. The ACVETEO will discuss the VETS core programs and services regarding efforts that assist veterans seeking employment and raise employer awareness as to the advantages of hiring veterans. There will be an opportunity for individuals or organizations to address the committee. Any individual or organization that wishes to do so should contact Mr. Gregory Green at 202-693-4734.

Individuals who will need accommodations for a disability in order to attend the meeting (e.g., interpreting services, assistive listening devices, and/or materials in alternative format) should notify the Advisory Committee no later than Friday, September 25, 2015 by contacting Mr. Gregory Green at 202-693-4734. Requests made after this date will be reviewed, but availability of the requested accommodations cannot be guaranteed. The meeting site is accessible to individuals with disabilities. This Notice also describes the functions of the ACVETEO. Notice of this meeting is required under Section 10(a)(2) of the Federal Advisory Committee Act. This document is intended to notify the general public.

Date and Time: Tuesday, September 29, 2015 beginning at 9:00 a.m. and ending at approximately 4:00 p.m. (EST).

ADDRESSES: The meeting will take place at the U.S. Department of Labor, Frances Perkins Building, 200 Constitution Avenue NW., Washington, DC 20210, C-5310 Room 1B. Members of the public are encouraged to arrive early to allow for security clearance into the Frances Perkins Building.

Security Instructions: Meeting participants should use the visitors' entrance to access the Frances Perkins Building, one block north of Constitution Avenue at 3rd and C Streets NW. For security purposes meeting participants must:

1. Present a valid photo ID to receive a visitor badge.

2. Know the name of the event being attended: the meeting event is the Advisory Committee on Veterans' Employment, Training and Employer Outreach (ACVETEO).

3. Visitor badges are issued by the security officer at the Visitor Entrance located at 3rd and C Streets NW. When receiving a visitor badge, the security officer will retain the visitor's photo ID until the visitor badge is returned to the security desk.

4. Laptops and other electronic devices may be inspected and logged for identification purposes.

5. Due to limited parking options, Metro's Judiciary Square station is the easiest way to access the Frances Perkins Building.

Notice of Intent to Attend the Meeting: All meeting participants are being asked to submit a notice of intent to attend by Friday, September 18, 2015, via email to Mr. Gregory Green at green.gregory.b@dol.gov, subject line “September 2015 ACVETEO Meeting.”

FOR FURTHER INFORMATION CONTACT: Mr. Gregory Green, Assistant Designated Federal Official for the ACVETEO, (202) 693-4734.

SUPPLEMENTARY INFORMATION: The ACVETEO is a Congressionally mandated advisory committee authorized under title 38, U.S. Code, section 4110 and subject to the Federal Advisory Committee Act, 5 U.S.C. App. 2, as amended. The ACVETEO is responsible for: Assessing employment and training needs of veterans; determining the extent to which the programs and activities of the U.S. Department of Labor meet these needs; assisting to conduct outreach to employers seeking to hire veterans; making recommendations to the Secretary, through the Assistant Secretary for VETS, with respect to outreach activities and employment and training needs of Veterans; and carrying out such other activities necessary to make required reports and recommendations. The ACVETEO meets at least quarterly.

Agenda

9:00 a.m.—Welcome and remarks, Teresa W. Gerton, Acting Assistant Secretary for Veterans Employment and Training Service

9:05 a.m.—Administrative Business, Gregory Green, Designated Federal Official

9:15 a.m.—Outreach Subcommittee Briefing and Discussion on finalizing recommendations

9:45 a.m.—Break

10:00 a.m.—Focused Populations Subcommittee Briefing and Discussion on finalizing recommendations

10:30 a.m.—Break

10:45 a.m.—Transition Subcommittee Briefing and Discussion on finalizing recommendations

11:15 p.m.—Break

11:30 p.m.—Lunch

12:00 p.m.—Subcommittees breakout drafting whitepaper on final recommendations

3:30 p.m.—Public Forum, Gregory Green Designated Federal Official

4:00 p.m.—Adjourn

Signed in Washington, DC, this 21st day of August, 2015.
Teresa W. Gerton,
Acting Assistant Secretary for Veterans' Employment and Training Service.

[FR Doc. 2015-21213 Filed 8-25-15; 8:45 am]

BILLING CODE 4510-79-P